DEPARTMENT OF ENERGY

Federal Energy Regulatory Commission

[Docket No. CP18-12-000]

Natural Gas Pipeline Company of America LLC; Notice of Schedule for Environmental Review of the Herscher Northwest Storage Field Abandonment Project

On October 31, 2017, Natural Gas Pipeline Company of America LLC (Natural) filed an application in Docket No. CP18-12-000 requesting permission pursuant to Section 7(b) of the Natural Gas Act to abandon certain facilities. The proposed project is known as the Herscher Northwest Storage Field Abandonment Project (Project), and is located in Kankakee County, Illinois.

On November 8, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—April 12, 2018

90-Day Federal Authorization Decision Deadline—July 11, 2018

If a schedule change becomes necessary, additional notice will be provided so that the relevant agencies are kept informed of the Project's progress.

Project Description

Natural proposes to abandon in place injection/withdrawal wells, pipeline laterals, and observation wells, and abandon by removal Compressor Station 202 and ancillary aboveground facilities belonging to its Herscher Northwest natural gas storage field in Kankakee, Illinois. Natural would also abandon in place approximately 15.3 billion cubic feet of non-recoverable cushion gas.

Background

On January 2, 2018 the Commission issued a Notice of Intent to Prepare an Environmental Assessment for the proposed Herscher Northwest Storage Field Abandonment Project and Request for Comments on Environmental Issues (NOI). The NOI was sent to affected landowners; federal, state, and local government agencies; elected officials; environmental and public interest groups; Native American tribes; other interested parties; and local libraries and newspapers. In response to the NOI, the Commission received comments from the U.S. Environmental Protection Agency (EPA). The primary issue raised by the EPA is potential impacts on groundwater.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-12), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 6, 2018.
Kimberly D. Bose,
Secretary.

[FR Doc. 2018-02778 Filed 2-9-18; 8:45 am]

BILLING CODE 6717-01-P